DEPARTMENT OF ENERGY

[Docket No. 24-27-LNG]

Sabine Pass Liquefaction, LLC and Sabine Pass Liquefaction Stage V, LLC; Amendment to Application for Long-Term Authorization To Export Liquefied Natural Gas to Non-Free Trade Agreement Nations

AGENCY: Office of Fossil Energy and Carbon Management, Department of Energy.

ACTION: Notice of amended application.

SUMMARY: The Office of Fossil Energy and Carbon Management (FECM) of the Department of Energy (DOE) gives notice (Notice) of receipt of an amendment (Amendment), filed on June 6, 2025, by Sabine Pass Liquefaction, LLC and Sabine Pass Liquefaction Stage V, LLC (collectively, Sabine Pass). Sabine Pass is amending its pending application requesting long-term authorization to export liquefied natural gas (LNG) filed on March 1, 2024, and later supplemented (together, 2024 Application), to change the requested export volume and export term. No other part of the 2024 Application is affected. Sabine Pass filed the Amendment under the Natural Gas Act (NGA).

DATES: Protests, motions to intervene, or notices of intervention, as applicable, requests for additional procedures, and written comments are to be filed as detailed in the Public Comment Procedures section no later than 4:30 p.m., Eastern time, on August 8, 2025.

ADDRESSES:

Electronic Filing by email (strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Cassandra S. Bernstein, U.S. Department of Energy (GC-76), Office of the Assistant General Counsel for Energy Delivery and Resilience, Forrestal Building, Room 6D-033, 1000 Independence Avenue SW, Washington, DC 20585, (240) 780-1691, cassandra.bernstein@hq.doe.gov.

SUPPLEMENTARY INFORMATION: In the pending 2024 Application, as supplemented,¹ Sabine Pass requests long-term, multi-contract authorization to export domestically produced LNG in a volume equivalent to 899.46 billion cubic feet per year (Bcf/yr) of natural gas from the proposed Sabine Pass Stage 5 Expansion Project (Stage 5 Project). The Stage 5 Project will be added to the existing Sabine Pass LNG facility on the Sabine-Neches Waterway in Cameron Parish, Louisiana (SPLNG Terminal). In the portion of the 2024 Application relevant here, Sabine Pass is seeking to export this LNG to any country with which the United States does not have a free trade agreement (FTA) requiring national treatment for trade in natural gas, and with which trade is not prohibited by U.S. law or policy (non-FTA countries), under section 3(a) of the NGA.²

¹ Sabine Pass Liquefaction, LLC and Sabine Pass Liquefaction Stage V, LLC, Application for Long-Term Authorization to Export Liquefied Natural Gas to Free Trade Agreement Nations and Non-Free Trade Agreement Nations, Docket No. 24-27-LNG (Mar. 1, 2024). On March 21, 2024, Sabine Pass supplemented the Application with documentation of site ownership.

² 15 U.S.C. 717b(a). On October 17, 2024, in DOE/FECM Order No. 5181, DOE granted the portion of the Application requesting authorization to export LNG to FTA countries under section 3(c) of the NGA, 15 U.S.C. 717b(c). That FTA authorization is not subject to this Notice.

In the non-FTA portion of the Amendment filed on June 6, 2025,³ Sabine Pass provides notice of the following two amendments to the 2024 Application:

³ Sabine Pass Liquefaction, LLC and Sabine Pass Liquefaction Stage V, LLC, Amendment to Pending Application for Authorization to Export Liquefied Natural Gas to Non-Free Trade Agreement Nations and Request for Amended Authorization for Exports to Free Trade Agreement Nations, Docket No. 24-27-LNG (June 6, 2025) [hereinafter Amendment]. Sabine Pass also requests an amendment to its FTA authorization (Order No. 5181), but that request is not subject to this Notice.

(1) Sabine Pass is increasing the requested LNG export volume in the 2024 Application by 50.54 Bcf/yr of natural gas, for a total requested export volume of 950.0 Bcf/yr of natural gas to non-FTA countries. Sabine Pass states that, on June 6, 2025, it submitted to the Federal Energy Regulatory Commission (FERC) an amendment to its pending application for the Stage 5 Project facilities. Sabine Pass states that its FERC amendment redesigns the Stage 5 Project with three liquefaction trains (instead of two) and will increase the maximum LNG production capacity of the SPLNG Terminal at peak operations under optimal conditions by the equivalent of 950.0 Bcf/yr of natural gas. Sabine Pass further states that it intends to construct the Stage 5 Project in two phases: Phase 1 (Train 7), and Phase 2 (Trains 8 and 9). According to Sabine Pass, the amended non-FTA export volume of natural gas will reflect the proposed design and operational refinements to the Stage 5 Project facilities.⁴

⁴ See id. at 4 n.8, 6-8, 10.

(2) In the 2024 Application, Sabine Pass had requested a term for its non-FTA export authorization extending through the later of (i) the end of 2050 or (ii) 20 years after the commencement of commercial exports under the requested authorization. Sabine Pass is now amending the 2024 Application to request a “term of twenty-five (25) years from the first commercial exports from the Phase 5 Project for non-FTA exports.” ⁵ Sabine Pass states that, because it is proposing to phase construction of the Stage 5 Project with three new liquefaction trains added sequentially, its initial request for a term ending on December 31, 2050, would result in an authorization of less than 20 years for exports sourced from the later constructed liquefaction trains (Trains 8 and 9). Sabine Pass states that a 25-year non-FTA export term will address this issue.

⁵ Id. at 12.

Sabine Pass states that this Amendment does not affect any other part of the 2024 Application. Additional details can be found in the Amendment, posted on the DOE website at https://www.energy.gov/sites/default/files/2025-06/SPL%20Stage%205%20Amendment%20to%20DOE%20Export%20Application%20%286-6-25%29.pdf.

DOE Evaluation

In reviewing Sabine Pass's Amendment to the 2024 Application, DOE will consider any issues required by law or policy under NGA section 3(a), DOE's regulations, and any documents deemed appropriate. Parties that may oppose this Amendment should comment in their responses on any issues relevant to the Amendment.

The National Environmental Policy Act (NEPA), 42 U.S.C. 4321 et seq., requires DOE to give appropriate consideration to the environmental effects of its proposed decisions. No final decision will be issued in this proceeding until DOE has met its NEPA responsibilities.

Public Comment Procedures

In response to this Notice, any person may file a protest, comments, or a motion to intervene or notice of intervention, as applicable, addressing the Amendment. Interested parties will be provided 30 days from the date of publication of this Notice in which to submit comments, protests, motions to intervene, or notices of intervention. The public previously was given an opportunity to intervene in, protest, and comment on Sabine Pass's 2024 Application in this docket. Therefore, DOE will not consider comments or protests that do not bear directly on the proposed amendments to the 2024 Application described above.

Any person wishing to become a party to the proceeding evaluating Sabine Pass's Amendment must file a motion to intervene or notice of intervention. The filing of comments or a protest with respect to the Amendment will not serve to make the commenter or protestant a party to this proceeding, although protests and comments received from persons who are not parties will be considered in determining the appropriate action to be taken on the Amendment. All protests, comments, motions to intervene, or notices of intervention must meet the requirements specified by the regulations in 10 CFR part 590, including the service requirements.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 24-27-LNG” or “Sabine Pass Stage 5 Amendment” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Amendment and any filed protests, motions to intervene, notices of intervention, and comments will be available electronically on the DOE website at www.energy.gov/fecm/regulation.

A decisional record on the Amendment will be developed through responses to this Notice by parties, including the parties' written comments and replies thereto. Additional procedures will be used as necessary to achieve a complete understanding of the facts and issues. If an additional procedure is scheduled, notice will be provided to all parties. If no party requests additional procedures, a final Order may be issued based on the official record, including the Amendment and responses filed by parties pursuant to this Notice, in accordance with 10 CFR 590.316.

Signed in Washington, DC, on July 3, 2025.
Amy Sweeney,
Director, Office of Regulation, Analysis, and Engagement, Office of Resource Sustainability.

[FR Doc. 2025-12762 Filed 7-8-25; 8:45 am]

BILLING CODE 6450-01-P